DEPARTMENT OF COMMERCE

National Oceanic and Atmospheric Administration

RIN 0648-GAR-A003

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The NMFS Assistant Regional Administrator for Sustainable Fisheries, Greater Atlantic Region, has made a preliminary determination that an exempted fishing permit application contains all of the required information and warrants further consideration. This exempted fishing permit would allow up to six commercial fishing vessels to use raised-footrope trawl gear to target small-mesh multispecies (silver and red hake) within Small Mesh Area 1 before the start of the open season. Regulations under the Magnuson-Stevens Fishery Conservation and Management Act require publication of this notification to provide interested parties the opportunity to comment on applications for a proposed exempted fishing permit.

DATES: Comments must be received on or before June 6, 2019.

ADDRESSES: You may submit written comments by any of the following methods:

• Email: NMFS.GAR.EFP@noaa.gov. Include in the subject line “Comments on the Gloucester Fisheries Commission Whiting Exempted Fishery Study EFP.”

• Mail: Michael Pentony, Regional Administrator, NMFS, Greater Atlantic Regional Office, 55 Great Republic Drive, Gloucester, MA 01930. Mark the outside of the envelope “Gloucester Fisheries Commission Exempted Fishery Study EFP.”

FOR FURTHER INFORMATION CONTACT: Laura Hansen, Fishery Management Specialist, (978) 281-9225.

SUPPLEMENTARY INFORMATION: The Gloucester Fisheries Commission (GFC) submitted an application for an EFP on May 6, 2019. This EFP would allow up to 6 commercial fishing vessels to take up to 60 trips to fish for small-mesh multispecies within Small Mesh Area 1 (SMA1). The GFC asserts that SMA 1 is underutilized during the current season and that small-mesh multispecies stocks may be more prevalent and more effectively targeted within the area before the start of the July 15 opening of the exemption area. This study would provide data on catch rates of small-mesh multispecies and bycatch of regulated Northeast multispecies (and other species) to help evaluate the potential for opening SMA1 earlier.

The small-mesh multispecies fishery is open in SMA1 from July 15 through November 15. This EFP would allow the participating vessels to fish in SMA1 as early as June 1 through July 14, 2019. The exact start date may be after June 1, as some details of participation and monitoring resources are still being finalized. The length of each trip would be at the discretion of the vessel operators, consistent with normal commercial fishing practices. Fishing would not occur in any area closed to protect spawning groundfish.

Participating vessels would use a raised-footrope trawl with diamond mesh codends that have a mesh size of greater than 2.5 inches but less than 3 inches, consistent with 50 CFR 648.80(a)(9)(ii). Massachusetts Division of Marine Fisheries (MA DMF) staff would inspect all gear prior to use to verify that it meets the required mesh size and gear specifications. Per regulation, this size mesh will allow participating vessels to retain up to 3,000 lb (3.4 mt) of whiting/offshore hake and 7,500 lb (1.4 mt) of red hake per trip. Participating vessels would also be exempt from the possession limits and minimum size requirements for biological sampling purposes only. All catch that is not retained for sale will be promptly returned to the sea.

A contracted observer or Northeast Fisheries Science Center staff would be on board all trips to collect data on catch composition, length and weight measurements, and operational data (location, weather, time, duration of tow, trawl speed, etc.).

The table below shows catch estimates for the project that are based on a similar study conducted by MA DMF, in 2016 and 2017. There is potential to catch up to 18 percent of the red hake total allowable landings (TAL) as part of this project which may be of concern to other fishermen that are not participating in the EFP.

Table 1—Estimated Catch for Whiting, Red Hake, Regulated Groundfish, and Other Species
[Numbers in metric tons]
Species | Average catch/trip 2016 | Average catch/trip 2017 | Project average | Expected catch (60 trips) | Percent of quota
Nothern Silver Hake | 2.4 | 1.9 | 2.1 | 128.5 | 0.5
Northern Red Hake | 0.9 | 0.8 | 0.8 | 50.2 | * 18.0
Cod | <0.1 | <0.1 | <0.1 | 0.2 | <0.1
Haddock | 0.5 | 0.1 | 0.3 | 19.0 | <0.1
American plaice | <0.1 | 0.1 | 0.1 | 3.2 | <0.1
Herring | <0.1 | 0.9 | 0.5 | 27.5 | <0.1
Yellowtail flounder | <0.1 | 0.1 | <0.1 | 2.4 | <0.1
Groundfish Excluding Haddock | 0.1 | 0.1 | 0.1 | 6.8 |
* This number is the percent of the TAL for Northern red hake.

If approved, the applicant may request minor modifications and extensions to the EFP throughout the year. EFP modifications and extensions may be granted without further notice if they are deemed essential to facilitate completion of the proposed research and have minimal impact that does not change the scope of the initially approved EFP request. Any fishing activity conducted outside the scope of the exempted fishing activity would be prohibited.

Authority: 16 U.S.C. 1801 et seq.

Dated: May 17, 2019.
Jennifer M. Wallace,
Acting Director, Office of Sustainable Fisheries, National Marine Fisheries Service.

[FR Doc. 2019-10672 Filed 5-21-19; 8:45 am]

BILLING CODE 3510-22-P